DEPARTMENT OF ENERGY

Federal Energy Regulatory Commission

[Docket No. RP02-554-001]

Eastern Shore Natural Gas Company; Notice of Tariff Filing

October 22, 2002.

Take notice that on October 15, 2002, Eastern Shore Natural Gas Company (ESNG) tendered for filing as part of its FERC Gas Tariff, Second Revised Volume No. 1, the revised tariff sheets listed in Appendix A to the filing, with a proposed effective date of October 1, 2002.

ESNG received an order in RP02-535-000 on October 1, 2002 that rejected the tariff sheets filed in its September 6, 2002 storage tracker filing. The tariff sheets were filed to revise ESNG's rates under Rate Schedule CFSS in order to track rate changes submitted by Columbia Gas Transmission Corporation (Columbia) on August 30, 2002, in Docket No. RP02-526-000. Columbia's tariff sheets were rejected by a Commission Letter Order issued September 26, 2002. Subsequently, ESNG's tariff sheets were rejected as moot. In this filing ESNG is requesting that tariff sheets originally filed on September 24, 2002 in Docket No. RP02-554-000 be withdrawn and substitute tariff sheets are being filed (in the same docket) which track the original changes in Transcontinental Gas Pipe Line Corporation (Transco) storage rates but also include corrected rates proposed to be changed under Rate Schedule CFSS from the filing made on September 6, 2002.

ESNG states that copies of the filing have been served upon its jurisdictional customers and interested State Commissions.

Any person desiring to protest said filing should file a protest with the Federal Energy Regulatory Commission, 888 First Street, NE, Washington, DC 20426, in accordance with Section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's Web site under the “e-Filing” link.

Linwood A. Watson, Jr.,
Deputy Secretary.

[FR Doc. 02-27463 Filed 10-28-02; 8:45 am]

BILLING CODE 6717-01-P